DEPARTMENT OF DEFENSE

Department of the Air Force

[No. USAF-2007-0023]

Submission for OMB Review; Comment Request

ACTION: Notice.

The Department of Defense has submitted to OMB for clearance, the following proposal for collection of information under the provisions of the Paperwork Reduction Act (44 U.S.C. Chapter 35).

DATES: Consideration will be given to all comments received by September 26, 2007.

Title, Form and OMB Number: Application for establishment of Air Force junior ROTC Unit; AFJROTC 59; OMB Control Number 0701-0114.

Type of Request: Extension.

Number of Respondents: 40.

Responses Per Respondent: 1.

Annual Responses: 40.

Average Burden Per Response: 30 minutes.

Annual Burden Hours: 20.

Needs and Uses: HQ AF Officer Accession and Training Schools, AF Junior ROTC (HQ AFOATS/JR) is responsible for the activation of AF Junior ROTC units at host schools. The information collection requirement is necessary to obtain information about schools that would like to host an Air Force Junior ROTC unit. Respondents are high school officials who provide information about their school. The completed application is used to determine the eligibility of the school to host an Air Force JROTC unit. Failure to submit the application renders the school ineligible for consideration to host an Air Force Junior ROTC unit.

Affected Public: Not-for-profit institutions.

Frequency: On occasion.

Respondent's Obligation: Required to obtain or retain benefits.

OMB Desk Officer: Ms. Hillary Jaffee.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: August 21, 2007.
Patricia L. Toppings,
Alternate OSD Federal Register Liaison Officer, Department of Defense.

[FR Doc. 07-4169 Filed 8-24-07; 8:45 am]

BILLING CODE 5001-06-M